SMALL BUSINESS ADMINISTRATION

[Disaster Declaration #10020 and #10021]

California Disaster Number CA-00001

AGENCY: U.S. Small Business Administration.

ACTION: Amendment 1.

SUMMARY: This is an amendment of the Presidential declaration of a major disaster for the State of California (FEMA-1577-DR), dated February 4, 2005.

Incident: Severe Storms, Flooding, Debris Flows, and Mudslides.

Incident Period: December 27, 2004, through January 11, 2005.

DATES: Effective Date: March 16, 2005.

Physical Loan Application Deadline Date: May 16, 2005.

EIDL Loan Application Deadline Date: November 4, 2005.

ADDRESSES: Submit completed loan applications to: U.S. Small Business Administration, Disaster Area Office 1, 360 Rainbow Blvd. South 3rd Floor, Niagara Falls, NY 14303.

FOR FURTHER INFORMATION CONTACT: A. Escobar, Office of Disaster Assistance, U.S. Small Business Administration, 409 3rd Street, Suite 6050, Washington, DC 20416.

SUPPLEMENTARY INFORMATION: The notice of the Presidential disaster declaration for the State of California dated February 4, 2005, is hereby amended to include the following areas as adversely affected by the disaster:

Primary Counties:

Kern

San Diego

Orange

Santa Barbara

Riverside

San Bernardino

Contiguous Counties:

California

Imperial

San Luis Obispo

Inyo

Tulare

Kings

Arizona

La Paz

Mohave

Nevada

Clark

The notice of the Presidential disaster declaration for the State of California dated February 4, 2005, is also amended to extend the deadline for filing applications for physical damages as a result of this disaster to May 16, 2005.

The States which received the EIDL Declaration # include California, Arizona, and Nevada.

All other information in the original declaration remains unchanged.

(Catalog of Federal Domestic Assistance Numbers 59002 and 59008)

Herbert L. Mitchell,
Associate Administrator for Disaster Assistance.

[FR Doc. 05-5941 Filed 3-24-05; 8:45 am]

BILLING CODE 8025-01-P